DEPARTMENT OF STATE

[Public Notice 4915]

Foreign Terrorists and Terrorist Organizations; Designation: Jam'at Tawhid al wa'al-Jihad, et al.

Determination pursuant to section 1(b) of Executive Order 13224 relating to the designation of Jam'at al Tawhid wa'al-Jihad, also known as the Monotheism and Jihad Group, also known as the al-Zarqawi Network, also known as al-Tawhid, also known as Tanzim Qa'idat al-Jihad fi Bilad al-Rafidayn, also known as the Organization of al-Jihad's Base in Iraq, also known as the Organization of al-Jihad's Base of Operations in Iraq, also known as al-Qaida of Jihad in Iraq, also known as al-Qaida in Iraq, also known as al-Qaida in Mesopotamia, also known as al-Qaida in the Land of the Two Rivers, also known as al-Qaida of the Jihad in the Land of the Two Rivers, also known as al-Qaida of Jihad Organization in the Land of the Two Rivers, also known as al-Qaida Group of Jihad in Iraq, also known as al-Qaida Group of Jihad in the Land of the Two Rivers, also known as the Organization of Jihad's Base in the Country of the Two Rivers, also known as the Organization Base of Jihad/Country of the Two Rivers, also known as the Organization of al-Jihad's Base in the Land of the Two Rivers, also known as the Organization Base of Jihad/Mesopotamia, also known as the Organization of al-Jihad's Base of Operations in the Land of the Two Rivers, also known as Tanzeem qa'idat al Jihad/Bilad al Raafidaini.

Acting under the authority of section 1(b) of Executive Order 13224 of September 23, 2001, as amended by Executive Order 13286 of July 2, 2002, and Executive Order 13284 of January 23, 2003, and in consultation with the Secretary of the Treasury, the Attorney General, and the Secretary of Homeland Security, I hereby determine that the designated terrorist organization known as Jam'at al-Tawhid wa'al-Jihad, aka the Monotheism and Jihad Group, aka, the al-Zarqawi Network, also known as al-Tawhid, has amended its name to Tanzim Qa'idat al-Jihad fi Bilad al-Rafidayn and all the translations and transliterations of that name listed above. This group continues to commit, or poses a significant risk of committing, acts of terrorism that threaten the security of U.S. nationals or the national security, foreign policy, or economy of the United States.

Consistent with the determination in section 10 of Executive Order 13224 that “prior notice to persons determined to be subject to the Order who might have a constitutional presence in the United States would render ineffectural the blocking and other measures authorized in the Order because of the ability to transfer funds instantaneously,” I determine that no prior notice need be provided to any person subject to this determination who might have a constitutional presence in the United States because to do so would render ineffectual the measures authorized in the Order.

This notice shall be published in the Federal Register.

Dated: November 30, 2004.
Colin L. Powell,
Secretary of State, Department of State.

[FR Doc. 04-26733 Filed 12-3-04; 8:45 am]

BILLING CODE 4710-10-P